DEPARTMENT OF THE INTERIOR

Office of the Secretary

National Invasive Species Council; Listening Sessions for Input to the Development of the National Invasive Species Management Plan

AGENCY: National Invasive Species Council, Interior.

ACTION: Notice of regional public listening sessions.

SUMMARY: This notice is published in accordance with the provisions of the Federal Advisory Committee Act (Pub. L. 92-463). Pursuant to Executive Order 13112, the National Invasive Species Council (NISC) on behalf of the Invasive Species Advisory Committee (ISAC) is holding regional public listening sessions in five locations for the first round of public input to the National Invasive Species Management Plan (Management Plan) under development by the NISC. A compilation of working group recommendations will be available at the meeting and through the Council's website (invasivespecies.gov) on or about July 7, 2000. These recommendations will be used to develop the framework and strategies of a draft plan.

DATES: See SUPPLEMENTARY INFORMATION section for ISAC/Council listening sessions dates and locations.

ADDRESSES: Comments and statements should be sent to Kelsey Passé, Program Analyst, National Invasive Species Council, 1951 Constitution Ave., NW, Room 320, Washington, DC 20240.

FOR FURTHER INFORMATION CONTACT: Kelsey Passé or Alexis Gutierrez at (202) 208-6336; FAX (202) 208-1526; email: kelsey_passe@ios.doi.gov or alexis_gutierrez@ios.doi.gov; Phone: (202) 208-6336; Fax: (202) 208-1526. Council website (available on or about 7/10/2000): http://www.invasivespecies.gov.

SUPPLEMENTARY INFORMATION: In 1997, more than 500 scientists and land and resource managers from across the U.S. wrote the Administration to express their concerns about invasive species and the federal government's lack of coordinated actions to address biological invaders. In response to the letter and to the growing concern associated with invasive species, the Administration issued Executive Order 13112 on February 3, 1999.

EO 13112 establishes a National Invasive Species Council (NISC) which is to provide national leadership regarding invasive species. The Council is to ensure that Federal agency activities concerning invasive species are coordinated, complementary, cost-efficient, and effective.

The NISC includes the Secretary of State, the Secretary of the Treasury, the Secretary of Defense, the Secretary of the Interior, the Secretary of Agriculture, the Secretary of Commerce, the Secretary of Transportation, and the Administrator of the Environmental Protection Agency. The Council is Co-Chaired by the Secretary of the Interior, the Secretary of Agriculture, and the Secretary of Commerce.

The NISC is required to produce a Management Plan in August, 2000. The Management Plan will encourage planning and action at the local, tribal, State, regional, and ecosystem-based levels; develop recommendations for international cooperation; provide guidance on incorporating prevention and control of invasive species into the National Environmental Policy Act; facilitate development of a communication network to document, evaluate, and monitor impacts from invasive species on the economy, the environment, and human health; and initiate the development of an information-sharing system that facilitates the exchange of information concerning invasive species.

The NISC, in order to address the requirements of EO 13112, established the Invasive Species Advisory Committee which consists of qualified representatives from outside of the Federal government. Their role is to provide stakeholder input to help the NISC achieve the goals and objectives of the Executive Order.

Management Plan—Scope and Objectives

Working groups, including federal and non-federal members, were convened this spring to provide the ISAC and the Council advice on what elements were most important to include in the first edition of the National Invasive Species Management Plan. The six working groups include the following:

1. Communication, Outreach, and Education

2. International Activities and Cooperation

3. Policy and Regulation

4. Research, Information Sharing, Documentation and Monitoring

5. Risk Analysis and Prevention

6. Management (Control and Restoration)

Working groups were organized with federal and non-federal co-leaders. The groups have and continue to utilize electronic communications (email, listservers, and web-based postings) to accelerate development of Management Plan input. The vision or scoping statements developed by each working group reflect a more specific refinement of the draft guiding principles adopted by the ISAC. Priority issues have been identified and the groups have developed draft responses or actions to be taken for consideration by the ISAC. As part of the management planning process, model projects will be identified which improve coordination and effectiveness and stimulate local action.

The working groups provided Council staff with summary information regarding the priority recommendations the Management Plan should include when the draft plan is ready for public comment and publication in the Federal Register in August, 2000. After issuance of the plan in the fall, the working groups will help implement the plan and begin developing input for its biennial revision.

A compilation of the working group recommendations will be available on the Council website, invasivespecies.gov on or about July 7, 2000. Initial comments from Federal agencies, State agencies, and the public (via the listening sessions and website responses) will be incorporated into a draft plan for discussion by the ISAC at their meeting in Seattle, WA, on August 2 and 3. A second draft will be completed by the end of August, for a 60 or 90 day comment period in the Federal Register.

Focus Questions

1. What are the most effective methods for gathering and disseminating information on invasive species and information on federal and non-federal activities regarding invasive species?

2. What is the best way to improve, expand, and implement an invasive species risk analysis or screening process?

3. What is the most effective way to communicate with interested parties before and during critical decision making activities?

4. What is the best way to encourage and involve key groups or individuals in implementing actions to address invasive species problems?

5. Is there an immediate project or action involving multiple regions, states, or interest groups that would address a significant invasive species issue? In your opinion, what should be the federal government's role in implementing this project or action?

ISAC Council Listening Sessions

(1) July 12, Oakland, California. 9 am-12 noon. Elihu Harris State Building, 1st Floor Auditorium, 1515 Clay Street.

(2) July 14, Chicago, Illinois. 9 am-3 pm. EPA Regional Office, 12th Floor Conference Center, Lake Michigan Room, 77 West Jackson Boulevard.

(3) July 14, Denver, Colorado. 9 am-2 pm. Executive Tower Hotel, Symphony Ballroom, 1405 Curtis Street.

(4) July 17, Albany, New York. 1 pm-5 pm. Marriott, Grand Ballroom Area, 189 Wolf Road.

(5) July 20, West Palm Beach, Florida. 1 pm-5 pm. South Florida Water Management District Headquarters Building, B-1, 3301 Gun Club Road.

Anyone wishing to make an oral presentation at a public listening session may do so without prior arrangement. Presenters will be recognized on a first-come, first-served basis, and comments will be limited based on the time available and the number of presenters. The presentation should identify the name and affiliation of the individual. Written presentation material may be provided to the staff for supplement to the court reporter's record. Written statements will be accepted at the meeting, or may be mailed or faxed to the NISC office. Those wishing to provide initial comments, but who are unable to attend one of the listening sessions, may send written comments to Kelsey Passé (see address below) by COB July 21, 2000.

Persons with disabilities who require accommodations to attend or participate in these meetings should contact Kelsey Passé, at 202-208-6336 or kelsey_passe@ios.doi.gov, by COB July 6, 2000.

Dated: June 28, 2000.
A. Gordon Brown,
Acting Co-Executive Director, National Invasive Species Council.

[FR Doc. 00-16735 Filed 6-28-00; 3:16 pm]

BILLING CODE 4310-RK-P